DEPARTMENT OF HOMELAND SECURITY

[Docket No. DHS-2010-0042]

Homeland Security Science and Technology Advisory Committee

AGENCY: Science and Technology Directorate, DHS.

ACTION: Committee Management; Notice of Partially Closed Federal Advisory Committee Meeting.

SUMMARY: The Homeland Security Science and Technology Advisory Committee (HSSTAC) will meet July 20-21, 2010 at 4075 Wilson Blvd., Liberty Conference Center, 3rd Floor in Arlington, VA 22203. This meeting will be partially closed to the public.

DATES: The Homeland Security Science and Technology Advisory Committee meeting will be open to the public on July 20th from 8:30 a.m.-9 a.m. and on July 21st from 9 a.m.-10:30 a.m. All other times, the meeting will be closed.

ADDRESSES: The meeting will be held at 4075 Wilson Blvd., Liberty Conference Center, 3rd Floor in Arlington, VA 22203. Comments on this meeting must be identified by DHS-2010-0042 and may be submitted by one of the following methods:

• Federal eRulemaking Portal: http://www.regulations.gov. Follow the instructions for submitting comments.

• E-mail: HSSTAC@dhs.gov. Include the docket number in the subject line of the message.

• Fax: 202-254-6173.

• Mail: Ms. Tiwanda Burse, Science and Technology Directorate, Department of Homeland Security, 245 Murray Lane, Bldg. 410, Washington, DC 20528.

Instructions: All submissions received must include the words “Department of Homeland Security” and the docket number for this action. Comments received will be posted without alteration at www.regulations.gov, including any personal information provided.

Docket: For access to the docket to read background documents or comments received by the HSSTAC, go to http://www.regulations.gov.

FOR FURTHER INFORMATION CONTACT: Ms. Tiwanda Burse, Science and Technology Directorate, Department of Homeland Security, 245 Murray Lane, Bldg. 410, Washington, DC 20528, 202-254-6877.

SUPPLEMENTARY INFORMATION: Notice of this meeting is given under the Federal Advisory Committee Act, 5 U.S.C. App. (Pub. L. 92-463).

At this meeting, the Committee will receive sensitive and classified (Secret-level) briefings and presentations regarding Infrastructure Protection programs in Science & Technology and updates on homeland security sensitive Federally Funded Research and Development Centers (FFRDCs) projects.

Basis for Closure: In accordance with Section 10(d) of the Federal Advisory Committee Act, it has been determined that the aspects of the Homeland Security Science and Technology Advisory Committee meeting concerns sensitive Homeland Security information and classified matters within the meaning of 5 U.S.C. 552b(c)(1), (c)(7)(E) & (F) and (c)(9)(B) which, if prematurely disclosed, would significantly jeopardize national security, not be in the public interest, could reveal investigative techniques and procedures, and the information could be expected to be used to circumvent the law, thereby endangering the life or physical safety of law enforcement personnel and frustrate implementation of proposed agency actions. Specifically, the Committee intends to discuss the applicability of foreign infrastructure protection techniques, technologies, and countermeasures for implementation in the United States. Accordingly, this meeting will be partially closed to the public.

The Federal Advisory Committee Act requires that notices of meetings of advisory committees be announced in the Federal Register 15 days prior to the meeting date. The meeting notice is being published late due to unavoidable delays in finalizing the agenda because of the classified material which is to be considered by the committee.

Dated: July 7, 2010.
Tara O'Toole,
Under Secretary for Science and Technology.

[FR Doc. 2010-17032 Filed 7-12-10; 8:45 am]

BILLING CODE 9110-9F-P